ENVIRONMENTAL PROTECTION AGENCY

40 CFR Part 52

[IL203-2; FRL-6910-8]

Approval and Promulgation of Implementation Plans; Illinois; Reopening of the Public Comment Period

AGENCY: Environmental Protection Agency (EPA).

ACTION: Proposed rule; reopening of the public comment period.

SUMMARY: EPA is reopening and extending the public comment period for a proposed rule published on August 31, 2000 (65 FR 52967). In the August 31, 2000 proposed rule, EPA proposed to approve Illinois' regulations for control of Oxides of Nitrogen (NOX) emissions from Electric Generating Units (EGUs) provided Illinois corrects identified deficiencies in the regulations. This proposed approval was done in parallel to the adoption of the regulations by the State. EPA solicited public comment on Illinois' proposed NOX regulations and on EPA's proposed action. At the request of the State of Missouri, EPA is reopening the comment period through December 11, 2000. All comments received before December 11, 2000, including those received between the close of the comment period on September 30, 2000 and the publication of this proposed rule reopening the comment period, will be entered into the public record and considered by EPA before taking final action on the proposed rule.

DATES: Comments must be received on or before December 11, 2000.

ADDRESSES: Written comments should be addressed to: J. Elmer Bortzer, Chief, Air Programs Branch (AR-18J), United States Environmental Protection Agency, 77 West Jackson Boulevard, Chicago, Illinois 60604.

FOR FURTHER INFORMATION CONTACT: Edward Doty, Regulation Development Section, Air Programs Branch (AR-18J), United States Environmental Protection Agency, 77 West Jackson Boulevard, Chicago, Illinois 60604, (312) 886-6057, (doty.edward@epa.gov).

Dated: November 21, 2000.
Francis X. Lyons,
Regional Administrator, Region 5.

[FR Doc. 00-30633 Filed 11-30-00; 8:45 am]

BILLING CODE 6560-50-U